ENVIRONMENTAL PROTECTION AGENCY

40 CFR Part 75

Continuous Emission Monitoring

CFR Correction

In Title 40 of the Code of Federal Regulations, Parts 72 to 80, revised as of July 1, 2010, on page 219, in § 75.11, paragraph (f) is added to read as follows:

§ 75.11 Specific provisions for monitoring SO2 emissions.

* * * * *

(f) Other units. The owner or operator of an affected unit that combusts wood, refuse, or other material in addition to oil or gas shall comply with the monitoring provisions for coal-fired units specified in paragraph (a) of this section, except where the owner or operator has an approved petition to use the provisions of paragraph (e)(1) of this section.

[FR Doc. 2011-8004 Filed 4-1-11; 8:45 am]

BILLING CODE 1505-01-D